DEPARTMENT OF HEALTH AND HUMAN SERVICES

Meeting of the President's Council on Fitness, Sports, and Nutrition; Correction

AGENCY: Office of the President's Council on Fitness, Sports, and Nutrition, Office of the Assistant Secretary for Health, Office of the Secretary, Department of Health and Human Services.

ACTION: Notice; Correction.

SUMMARY: The Department of Health and Human Services published a notice in the Federal Register of April 21, 2011 to announce a meeting of the President's Council on Fitness, Sports, and Nutrition that will be held on May 10, 2011, from 11 a.m. to 2:30 p.m., in the U.S. Capitol Visitor Center, East Capitol and First Streets, NE., Washington, DC 20001. The meeting location has changed.

FOR FURTHER INFORMATION CONTACT: Ms. Shellie Pfohl, Executive Director, President's Council on Fitness, Sports, and Nutrition, Phone: (240) 276-9866 or (240) 276-9567.

Correction

In the Federal Register of April 21, 2011, FR Doc. 2011-9665, on page 22398, in the first column, correct the ADDRESSES caption to read:

ADDRESSES: Russell Senate Office Building, The Kennedy Caucus Room; Constitution Avenue and First Street, NE., Washington, DC 20002.

Dated: April 28, 2011.
Shellie Y. Pfohl,
Executive Director, President's Council on Fitness, Sports, and Nutrition.

[FR Doc. 2011-10973 Filed 5-4-11; 8:45 am]

BILLING CODE 4150-35-P